NATIONAL AERONAUTICS AND SPACE ADMINISTRATION

[Notice 01-032]

NASA Advisory Council, Aero-Space Technology Advisory Committee, Aviation Operations Systems Subcommittee; Meeting

AGENCY: National Aeronautics and Space Administration.

ACTION: Notice of meeting cancellation.

Federal Register Citation of Previous Announcement: 66FR29, Notice Number 01-022, February 12, 2001.

Previously Announced Dates of Meeting: Wednesday, March 28, 2001, 1 p.m. to 5 p.m. and Thursday, March 29, 2001, 8:30 a.m. to 4:30 p.m. The meeting will be rescheduled.

FOR FURTHER INFORMATION CONTACT: Mr. Robert A. Jacobsen, National Aeronautics and Space Administration, Ames Research Center, Moffett Field, CA 94035, 650/604-3743.

Dated:February 27, 2001.
Beth M. McCormick,
Advisory Committee Management Officer, National Aeronautics and Space Administration.

[FR Doc. 01-5213 Filed 3-2-01; 8:45 am]

BILLING CODE 7510-01-P